DEPARTMENT OF JUSTICE

Federal Bureau of Investigation

[OMB Number 1110-0005]

Agency Information Collection Activities; Proposed eCollection eComments Requested; Extension Without Change, of a Currently Approved Collection; Age, Sex, Race, and Ethnicity of Persons Arrested Under 18 Years of Age; Age, Sex Race, and Ethnicity of Persons Arrested 18 Years of Age and Over

AGENCY: Federal Bureau of Investigation, Department of Justice.

ACTION: 60-Day notice.

SUMMARY: The Department of Justice (DOJ), Federal Bureau of Investigation (FBI), Criminal Justice Information Services Division (CJIS), will be submitting the following information collection request to the Office of Management and Budget (OMB) for review and approval in accordance with the Paperwork Reduction Act of 1995.

DATES: Comments are encouraged and will be accepted for 60 days until April 18, 2017.

FOR FURTHER INFORMATION CONTACT: All comments, suggestions, or questions regarding additional information, to include obtaining a copy of the proposed information collection instrument with instructions, should be directed to Mrs. Amy C. Blasher, Unit Chief, Federal Bureau of Investigation, Criminal Information Services Division, Module E-3, 1000 Custer Hollow Road, Clarksburg, West Virginia 26306; facsimile (304) 625-3566.

SUPPLEMENTARY INFORMATION: Written comments and suggestions from the public and affected agencies concerning the proposed collection of information are encouraged. Your comments should address one or more of the following four points:

—Evaluate whether the proposed collection of information is necessary for the proper performance of the functions of the Federal Bureau of Investigation, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: Age, Sex, Race, and Ethnicity of Persons Arrested Under 18 Years of Age; and Age, Sex, Race, and Ethnicity of Persons Arrested 18 Years of Age and Over.

3. The agency form number, if any, and the applicable component of the Department sponsoring the collection: The form number is 1-708 and 1-708a. The applicable component within the Department of Justice is the Criminal Justice Information Services Division, in the Federal Bureau of Investigation.

4. Affected public who will be asked or required to respond, as well as a brief abstract:

Primary: City, county, state, tribal and federal law enforcement agencies.

Abstract: Under Title 28, U.S. Code, Section 534, Acquisition, Preservation, and Exchange of Identification Records; and Appointment of Officials, 1930, this collection requests the number of arrests from from city, county, state, tribal, and federal law enforcement agencies in order for the FBI UCR Program to serve as the national clearinghouse for the collection and dissemination of arrest data and to publish these statistics in Crime in the United States.

5. An estimate of the total number of respondents and the amount of time estimated for an average respondent to respond: There are approximately 11,791 law enforcement agency respondents; calculated estimates indicate 12 minutes for form 1-708a and 15 minutes for form 1-708 per month. The total annual burden hours per respondent is 5 hours and 24 minutes.

Total Annual Hour Burden: 15 minutes + 12 minutes × 12 months = 324 / 60 = 5 hours and 24 minutes.

6. An estimate of the total public burden (in hours) associated with the collection: There are approximately 63,671 hours, annual burden, associated with this information collection.

If additional information is required contact: Melody Braswell, Department Clearance Officer, United States Department of Justice, Justice Management Division, Policy and Planning Staff, Two Constitution Square, 145 N Street NE., 3E.405A, Washington, DC 20530.

Dated: February 14, 2017.
Melody Braswell,
Department Clearance Officer for PRA, U.S. Department of Justice.

[FR Doc. 2017-03214 Filed 2-16-17; 8:45 am]

BILLING CODE 4410-02-P